DEPARTMENT OF COMMERCE

International Trade Administration

A-570-856

Synthetic Indigo from the People's Republic of China; Notice of Final Results of Expedited Sunset Review of Antidumping Duty Order

AGENCY: Import Administration, International Trade Administration, Department of Commerce.

SUMMARY: On May 2, 2005, the Department of Commerce (“the Department”) initiated the sunset review of the antidumping duty order on synthetic indigo from the People's Republic of China (“China”) pursuant to section 751(c) of the Tariff Act of 1930, as amended (“the Act”). On the basis of a Notice of Intent to Participate, adequate substantive response filed on behalf of a domestic interested party, and lack of response from respondent interested parties, the Department conducted an expedited (120-day) sunset review. As a result of this sunset review, the Department finds that revocation of the antidumping duty order would be likely to lead to continuation or recurrence of dumping. The dumping margins likely to prevail if the order were revoked are identified in the Final Results of Review section of this notice.

EFFECTIVE DATE: September 7, 2005.

FOR FURTHER INFORMATION Hilary E. Sadler, Esq., AD/CVD Operations, Office 8, International Trade Administration, U.S. Department of Commerce, 14th Street & Constitution Avenue, NW, Washington, DC 20230; telephone: (202) 482-4340.

SUPPLEMENTARY INFORMATION:

Background

On May 2, 2005, the Department published the notice of initiation of the sunset review of the antidumping duty order on synthetic indigo from China. See Initiation of Five-year (“Sunset”) Reviews, 70 FR 22632 (May 2, 2005) (“Initiation Notice”). On May 17, 2005, the Department received a Notice of Intent to Participate from Buffalo Color Corporation (“Buffalo Color”), a domestic interested party, within the deadline specified in section 315.218(d)(1)(i) of the Department's regulations. Buffalo Color claimed interested party status under section 771(9)(C) of the Act, as a manufacturer, producer, or wholesaler in the United States of a domestic like product. On June 1, 2005, the Department received a complete substantive response from Buffalo Color within the deadline specified in section 351.218(d)(3)(i) of the Department's regulations. We did not receive a response from any respondent interested party to this proceeding. As a result, pursuant to section 751(c)(3)(B) of the Act and section 351.218(e)(1)(ii)(C)(2) of the Department's regulations, the Department determined to conduct an expedited review of this order.

Scope of the Order

The products subject to this order are the deep blue synthetic vat dye known as synthetic indigo and those of its derivatives designated commercially as “Vat Blue 1.” Included are Vat Blue 1 (synthetic indigo), Color Index No. 73000, and its derivatives, pre-reduced indigo or indigo white (Color Index No. 73001) and solubilized indigo (Color Index No. 73002). The subject merchandise may be sold in any form (e.g., powder, granular, paste, liquid, or solution) and in any strength. Synthetic indigo and its derivatives subject to this order are currently classifiable under subheadings 3204.15.10.00, 3204.15.40.00 or 3204.15.80.00 of the Harmonized Tariff Schedule of the United States (HTSUS). Although the HTSUS subheadings are provided for convenience and customs purposes, the written description of the merchandise under the order is dispositive.

Analysis of Comments Received

All issues raised in this review are addressed in the “Issues and Decision Memorandum” (“Decision Memo”) from Barbara E. Tillman, Acting Deputy Assistant Secretary for Import Administration, to Joseph A. Spetrini, Acting Assistant Secretary for Import Administration, dated August 30, 2005, which is hereby adopted by this notice. The issues discussed in the Decision Memo include the likelihood of continuation or recurrence of dumping and the magnitude of the margins likely to prevail if the order were revoked. Parties can find a complete discussion of all issues raised in this review and the corresponding recommendations in this public memorandum which is on file in room B-099 of the main Commerce Building.

In addition, a complete version of the Decision Memo can be accessed directly on the Web at http://ia.ita.doc.gov/frn/index.html, under the heading “September 2005.” The paper copy and electronic version of the Decision Memo are identical in content.

Final Results of Review

We determine that revocation of the antidumping duty order on synthetic indigo from China would likely lead to continuation or recurrence of dumping at the following weighted-average percentage margins:

Manufacturers/Exporters/Producers | Weighted Average Margin (percent)
Wonderful Chemical Industrial Ltd./Jiangsu Taifeng Chemical Industry Company, Ltd. | 129.60
China National Chemical Construction Jiangsu Company | 79.70
China Jiangsu International Economic Technical Cooperation Corp | 129.60
Shanghai Yongchen International Trading Company Ltd. | 79.70
Hebei Jinzhou Import & Export Corporation | 79.70
Sinochem Hebei Import & Export Corporation | 79.70
Chongqing Dyestuff Import & Export United Corporation | 79.70
Wuhan Tianjin Chemicals Imports & Exports Corp., Ltd. | 79.70
China-wide Rate | 129.60

This notice also serves as the only reminder to parties subject to administrative protective order (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: August 30, 2005.
Joseph A. Spetrini,
Acting Assistant Secretary for Import Administration.

[FR Doc. E5-4865 Filed 9-6-05; 8:45 am]

BILLING CODE 3510-DS-S